DEPARTMENT OF LABOR

Employment and Training Administration

Agency Information Collection Activities; Comment Request; Benefit Accuracy Measurement (BAM) Program

ACTION: Notice.

SUMMARY: The Department of Labor's (DOL) Employment and Training Administration (ETA) is soliciting comments concerning a proposed extension for the authority to conduct the information collection request (ICR) titled, “Benefit Accuracy Measurement (BAM) Program.” This comment request is part of continuing Departmental efforts to reduce paperwork and respondent burden in accordance with the Paperwork Reduction Act of 1995 (PRA).

DATES: Consideration will be given to all written comments received by April 25, 2022.

ADDRESSES: A copy of this ICR with applicable supporting documentation, including a description of the likely respondents, proposed frequency of response, and estimated total burden, may be obtained free by contacting Rhonda Cowie by telephone at 301-693-3821 (this is not a toll-free number), TTY 1-877-889-5627 (this is not a toll-free number), or by email at cowie.rhonda.m@dol.gov.

Submit written comments about, or requests for a copy of, this ICR by mail or courier to the U.S. Department of Labor, Employment and Training Administration, Office of Unemployment Insurance, Room S-4520, 200 Constitution Avenue NW, Washington, DC 20210, by email at cowie.rhonda.m@dol.gov, or by Fax at 202-693-3975.

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

Since 1987, all State Workforce Agencies (SWA), except the U.S. Virgin Islands, have been required by regulation at 20 CFR part 602 to operate BAM programs to assess the accuracy of their unemployment insurance (UI) benefit payments in three programs: State UI, Unemployment Compensation for Federal Employees (UCFE), and Unemployment Compensation for Ex-servicemembers (UCX). Beginning in 2001, BAM was modified to include the sampling and investigation of UI claims denied for monetary, separation, or nonseparation issues.

BAM is one of the tools DOL uses to measure and reduce improper payments in the UI program. By investigating small representative weekly samples of both paid and denied UI claims, each SWA calculates a reliable estimate of the number and dollar value of proper and improper payments; the number of proper and improper denials of claims for UI benefits; the rates of occurrence of these proper and improper payments and denials; and the error types, error causes, and the parties that are responsible for the errors.

Paid Claims Accuracy. Each week, SWAs select random samples of both intrastate and interstate original payments (including combined wage claims) made for a week of UI benefits under the State UI, UCX, and UCFE programs. A sample of 360 cases per year are pulled in the 10 SWAs with the smallest UI program workloads (defined as the average annual UI weeks paid during the last five years) and 480 cases per year in the other SWA. SWA BAM staff audit each selected claim, examining all aspects of a claimant's eligibility to receive UI benefits during the sampled week. The findings are entered into an automated database that is maintained on a computer located in each SWA.

Denied Claims Accuracy (DCA). Each week, SWAs select random samples from three separate sampling frames constructed from the universes of UI claims for which eligibility was denied for monetary, separation, and nonseparation reasons. All SWAs sample a minimum of 150 cases of each denial type in each calendar year. SWA BAM staff members review agency records and contact claimants, employers, and all other relevant parties to verify information in agency records or obtain additional information pertinent to the determination that denied eligibility for UI benefits. Unlike the investigation of paid claims, in which all prior determinations affecting claimant eligibility for the compensated week selected for the sample are evaluated, the investigation of denied claims is limited to the issue upon which the denial determination is based. The findings are entered into an automated database that is maintained on a computer located in each SWA.

DOL maintains a database of each SWA's BAM paid and denied claims cases, minus any personally identifying information. DOL uses BAM data to measure SWA performance with respect to UI payment integrity and to meet the DOL's reporting requirements of the Payment Integrity Information Act of 2019 and the Government Performance and Results Act. DOL also relies heavily on BAM data for information on UI operations, such as claims filing method, UI wage replacement rates, and claimant characteristics. The results of the BAM survey are reported annually on the ETA website at the following link: https://oui.doleta.gov/unemploy/bqc.asp. The Payment Integrity Information Act of 2019 (31 U.S.C. 3352) and Section 303(a)(6) of the Social Security Act authorize this information collection.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB Control Number 1205-0245. Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Extension without changes.

Title of Collection: Unemployment Insurance Benefit Accuracy Measurement.

Form: BAM State Operations Handbook (ET Handbook 395, 5th edition).

OMB Control Number: 1205-0245.

Affected Public: State Workforce Agencies (Primary), individuals, businesses, and not-for-profit institutions.

Estimated Number of Respondents: 181,633.

Frequency: Varies.

Total Estimated Annual Responses: 228,745.

Estimated Average Time per Response: Varies.

Estimated Total Annual Burden Hours: 618,084 hours.

Total Estimated Annual Other Cost Burden: $0.

(Authority: 44 U.S.C. 3506(c)(2)(A))

Angela Hanks,
Acting Assistant Secretary for Employment and Training, Labor.

[FR Doc. 2022-03765 Filed 2-22-22; 8:45 am]

BILLING CODE 4510-FW-P